DEPARTMENT OF ENERGY

Federal Energy Regulatory Commission

18 CFR Part 35

Revisions to Electric Quarterly Report Filing Process

AGENCY: Federal Energy Regulatory Commission, DOE.

ACTION: Notice of Proposed Rulemaking.

SUMMARY: The Federal Energy Regulatory Commission (Commission) proposes to amend a Rule which governs the filing of Electric Quarterly Reports (EQRs), to change the process for filing EQRs. Currently, EQRs are filed by downloading EQR software from the Commission's Web site, installing it on the filer's Microsoft Windows-based computer, entering the EQR data into the software, and then submitting the EQR data to the Commission. The EQR software is designed in Microsoft Visual FoxPro. Technological changes and limitations will render the current filing process outmoded, ineffective, and unsustainable. Microsoft has discontinued Visual FoxPro and will not support the software after 2015. Visual FoxPro also is constrained by data size limitations that will soon restrict the Commission's ability to add data fields in the EQR. Therefore, the Commission proposes a new filing system that will provide EQR filers with two new options for filing EQRs.

One option would allow an EQR filer to use a web interface on the Commission's Web site to file its EQR. This web interface would look and operate like the current EQR software that uses Visual FoxPro. However, an EQR filer would not need to download and install software from the Commission's Web site to file because the data would be filed directly with the Commission through the web interface. The other option would allow an EQR filer to file its EQR in an Extensible Mark-Up Language (XML) format via the Commission's Web site. By proposing a process with two options for filing EQRs, the Commission seeks to provide the flexibility needed to accommodate EQR filers' technical preferences. Under both options, the Commission proposes to require EQR filers to use the company identification number (Company Identifier) assigned through the Commission's Company Registration System, which was developed for the Commission's eTariff system. The Company Identifier would replace the personal identification numbers that are currently used and that are unique to the existing EQR filing process. The Commission also proposes that implementation of any changes to the process for filing EQRs will apply to EQR filings beginning with the third quarter 2013 EQR, providing data for July through September 2013.

The Commission will convene a staff-led public conference on Wednesday, July 11, 2012 to demonstrate the two new options for filing EQRs to industry participants and assist participants in preparing their comments to this Notice of Proposed Rulemaking.

DATES: Comments are due September 4, 2012.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT: Connie Caldwell, Office of Enforcement, Federal Energy Regulatory Commission, 888 First Street NE., Washington, DC 20426, (202) 502-6208, Connie.Caldwell@ferc.gov.

Christina Switzer, Office of General Counsel, Federal Energy Regulatory Commission, 888 First Street NE., Washington, DC 20426, (202) 502-6379, Christina.Switzer@ferc.gov.

SUPPLEMENTARY INFORMATION:

[Docket No. RM12-3-000]

June 21, 2012.

1. The Federal Energy Regulatory Commission (Commission) proposes changes to the method for filing Electric Quarterly Reports (EQRs). Due to technological changes that will render the current filing process outmoded, ineffective, and unsustainable, the Commission proposes to discontinue the use of Commission software to file an EQR. Instead, the Commission proposes to allow an EQR filer to file EQR data directly through the Commission's Web site, either through a web interface or by submitting an Extensible Mark-Up Language (XML)-formatted ¹ file. The Commission also proposes to require the EQR filer to identify itself with a company identification number (Company Identifier) rather than the existing software-based EQR identifiers.

¹ XML is a set of standards for describing and communicating data.

I. Background

2. Prior to the issuance of Order No. 2001,² the Commission required public utilities to file in paper format all short-term and long-term service agreements for market-based sales of electric energy and service agreements for generally applicable services (such as point-to-point transmission service), in Quarterly Transaction Reports. In Order No. 2001, the Commission replaced the paper filing requirement with an electronic filing requirement. The Commission stated that the purpose of the EQR filing requirements is to:

² Revised Public Utility Filing Requirements, Order No. 2001, 67 FR 31043 (May 8, 2002), FERC Stats. & Regs. ¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 10, 2008), 121 FERC ¶ 61,289 (2007), order revising filing requirements, Order No. 2001-I, 73 FR 65526 (Nov. 4, 2008), FERC Stats. & Regs. ¶ 32,282 (2008).

make available for public inspection, in a convenient form and place all relevant information relating to public utility rates, terms, and conditions of service; ensure that information is available in a standardized, user friendly format; and meet the Commission's electronic filing option obligation. [Footnote omitted.] These actions also will allow the public to better participate in and obtain the full benefits of wholesale electric power markets while minimizing the reporting burden on public utilities.³

³ Order No. 2001, FERC Stats. & Regs. ¶ 31,127 at 30,116.

In addition, the Commission noted that the EQR allows public utilities to better fulfill their responsibility under section 205(c) of the Federal Power Act (FPA) to have rates on file in a convenient form and place.⁴ An EQR file must include, for the most recent calendar quarter: (1) a summary of the terms and conditions in all agreements to provide jurisdictional services (including market-based and cost-based power sales, as well as transmission service); and (2) transaction information for all short-term and long-term market-based and cost-based power sales.⁵

⁴ 16 U.S.C. 824d(c).

⁵ Since the Commission issued Order No. 2001, it has refined and clarified the EQR filing requirements in response to changes in the industry and the Commission's rules and regulations. For example, the Commission has required EQR filers to report all transmission capacity reassignments and proposed to revise the EQR Data Dictionary to add “Simultaneous Exchange” to the list of available product names. See Preventing Undue Discrimination and Preference in Transmission Service, Order No. 890, 72 FR 12266 (Mar. 15, 2007), FERC Stats. & Regs. ¶ 31,241, at P 817, order on reh'g, Order No. 890-A, 73 FR 2984 (Jan. 16, 2008), FERC Stats. & Regs. ¶ 31,261 (2007), order on reh'g and clarification, Order No. 890-B, 73 FR 39092 (July 8, 2008), 123 FERC ¶ 61,299 (2008), order on reh'g, Order No. 890-C, 74 FR 12540 (Mar. 25, 2009),126 FERC ¶ 61,228 (2009), order on clarification, Order No. 890-D, 74 FR 61511 (Nov. 25, 2009), 129 FERC ¶ 61,126 (2009); Revised Public Utility Filing Requirements for Electric Quarterly Reports, Notice of Proposed Rulemaking, 77 FR 16494 (Mar. 21, 2012), FERC Stats. & Regs. ¶ 32,687 (2012). The Commission has also proposed new filing requirements for all EQR filers and extending the EQR filing requirements to non-public utilities above a de minimis market presence threshold. Electricity Market Transparency Provisions of Section 220 of the Federal Power Act, Notice of Proposed Rulemaking, 76 FR 24188 (Apr. 29, 2011), FERC Stats. & Regs. ¶ 32,676 (2011).

3. In Order No. 2001, the Commission promulgated 18 CFR 35.10b (2011), which reads, in pertinent part: “* * * Electric Quarterly Reports must be prepared in conformance with the Commission's software and guidance posted and available for downloading from the FERC Web site (http://www.ferc.gov).” ⁶ Consistent with this portion of the regulation, the Commission's Web site provides public utilities with software and guidance for filing an EQR.

⁶ 18 CFR 35.10b.

II. Discussion

4. Pursuant to section 35.10b of the Commission's Regulations,⁷ EQR filers must first download the EQR software application that is available on the Commission's Web site. The EQR software application was built with Visual FoxPro development tools and must be installed on a Windows-based computer. This software has certain disadvantages. Microsoft, the Visual FoxPro vendor, announced in 2007 that it would no longer sell or issue new versions of Visual FoxPro and would provide support for it only through 2015. Also, over time, the Commission has found that it is difficult to maintain quarterly transactions in a single table in the face of changes in the Commission's jurisdictional markets because Visual FoxPro does not allow data tables to exceed two gigabytes. These data size limitations will soon restrict the Commission's ability to add data fields in the EQR. These limitations make the EQR software application outmoded, ineffective, and unsustainable.

⁷ 18 CFR 35.10b.

5. To ensure an ongoing, reliable mechanism for filing EQR data, the Commission proposes to replace the Visual FoxPro-based EQR software with two new filing options. The Commission recognizes the need to facilitate a smooth transition to these new filing options. In addition, on July 11, 2011, the President issued Executive Order 13579, requesting that independent agencies issue public plans for periodic retrospective analysis of existing regulations.⁸ Retrospective analysis should identify regulations that may be outmoded, ineffective, insufficient, or excessively burdensome and to modify, streamline, expand, or repeal them in order to achieve the agency's regulatory objective. The Commission believes that the changes proposed in this Notice of Proposed Rulemaking (NOPR) support the goals of this Executive Order by modifying a filing process that has become outmoded, ineffective and unsustainable.

⁸ Regulation and Independent Regulatory Agencies, Exec. Order 13579, 76 FR 41587 (2011).

6. Under the proposed process, the first new filing option that the Commission proposes builds upon the automated systems that EQR filers have developed to enter data into the current EQR software. The EQR software application allows EQR filers to enter quarterly data by hand or by importing the data in comma-delimited text files. EQR filers have built automated systems to generate the comma-delimited text files. Therefore, the Commission proposes to offer a web interface on the Commission's Web site that allows EQR filers to continue to enter data in the comma-delimited text format but without the need to download software. This option would minimize the changes for an EQR filer and streamline the filing process by eliminating the need for filers to enter or import the data into a software application. The proposed web interface will be device-independent; therefore, this method would eliminate the need for the EQR filer to use a Windows-based computer.

7. Under the proposed new filing process, EQR filers can elect a second option if they prefer, which allows them to file EQR data via XML-formatted files. This proposed method has various advantages. An XML schema includes rules and data checks that are unavailable in a comma-delimited file. For example, an EQR filer using XML would be able to tag each data element to ensure that it reaches the Commission with an accurate description; a comma-delimited file does not provide that assurance. Therefore, this proposed filing option allows EQR filers to test the consistency of their data with the Commission's filing standards, improving the ability to comply with the EQR filing requirement and increasing confidence that the Commission receives the intended information. However, as discussed above, use of the XML format is optional, and filers are free to choose to file via the web-based interface option.

8. The Commission also proposes to change the manner in which an EQR filer is identified. In the current EQR software, an EQR filer applies for a “PIN” number when it first contacts the Commission about filing an EQR. To receive a PIN number, a representative of the filer must confirm via email that the request is made via the EQR filer's email address. Once it receives the PIN number, the EQR filer identifies itself in its filing by “retrieving” its listing, downloading the applicable files (including past filings), and entering the “PIN” number when ready to submit the filing to the Commission. This PIN number system is part of the EQR software application. Therefore, as part of the transition away from this software application, the Commission must provide a new manner to identify EQR filers.

9. To assure consistency and the ability to cross-reference Commission filings, the Commission proposes to replace the PIN number identification system with the Company Registration System used for eTariff filings. As part of the development of the eTariff system,⁹ the Commission directed each publicly regulated company to file its tariffs, rate schedules, jurisdictional contracts, and other jurisdictional agreements with a “Company Identifier.” The Commission developed a registration system to permit a publicly regulated company to request a Company Identifier, modify information associated with an existing Company Identifier, and request a new password.” ¹⁰ The data is used by the Commission to identify the company making a tariff filing, to notify the publicly regulated company that a filing has been made in its name, and to create a list of publicly regulated companies. The Commission proposes to require EQR filers to use these Company Identifiers to identify themselves.¹¹ Because the publicly regulated companies that file their Commission-jurisdictional tariffs and agreements have Company Identifiers, the Commission does not anticipate that the use of a Company Identifier in the EQR filing process will create an undue burden for these companies. Rather, it provides publicly regulated companies that file an EQR a consistent and, therefore, more controllable method to demonstrate that it is the appropriate EQR filer. We also anticipate that the use of the Company Identifier will not be unduly burdensome for an EQR filer that does not have an existing Company Identifier because the registration process on the Commission's Web site is straightforward and no more difficult than the current filer identification process.¹² The use of the Company Identifier for EQR filings will allow the Commission to make filer identification consistent across all Commission filings.

⁹ Electronic Tariff Filings, Order No. 714, 73 FR 57515 (Oct. 3, 2008), FERC Stats. & Regs. ¶ 31,276 (2008).

¹⁰ See Implementation Guide for Electronic Filing of Parts 35, 154, 284, 300, and 341 Tariff Filings (Jan. 23, 2012 version), available at http://www.ferc.gov/docs-filing/company-reg.asp.

¹¹ The Commission recognizes that there are instances when a company uses an agent to file on its behalf. If the Commission adopts the proposal to require EQR filers to identify themselves using the Company Identifier system, then the Commission proposes to ensure that the new filing process continues to allow an agent to file on behalf of a company.

¹² Id.

10. The Commission will convene a staff-led public conference on Wednesday, July 11, 2012 to demonstrate the two new options for filing EQRs to industry participants. The demonstration will assist participants in preparing their comments to this NOPR. The conference will be available by webcast.

11. The Commission also proposes that implementation of any changes to the process for filing EQRs will apply to EQR filings beginning with the third quarter (Q3) 2013 EQR, providing data for July through September 2013. Implementing the changes within that time period should provide EQR filers with sufficient time to weigh the two options and file their Q3 2013 report in a timely manner.

III. Information Collection Statement

12. The Office of Management and Budget (OMB) regulations require approval of certain information collection requirements imposed by agency rules.¹³ Upon approval of a collection(s) of information, OMB will assign an OMB control number and an expiration date. Respondents subject to the filing requirements of an agency rule will not be penalized for failing to respond to these collections of information unless the collections of information display a valid OMB control number. The Paperwork Reduction Act (PRA) ¹⁴ requires each federal agency to seek and obtain OMB approval before undertaking a collection of information directed to ten or more persons or contained in a rule of general applicability.¹⁵

¹³ 5 CFR 1320.8.

¹⁴ 44 U.S.C. 3501-3520.

¹⁵ OMB's regulations at 5 CFR 1320.3(c)(4)(i) require that “[a]ny recordkeeping, reporting, or disclosure requirement contained in a rule of general applicability is deemed to involve ten or more persons.”

13. The Commission is submitting these reporting and recordkeeping requirements to OMB for its review and approval under section 3507(d) of the PRA. The subject of this NOPR is FERC's proposed changes to the method for filing EQRs and how an EQR filer identifies itself. The Commission solicits comments on these modifications, the accuracy of burden estimates, ways to enhance quality, utility, and clarity of the information to be collected, and any suggested methods for minimizing respondents' burden

14. The Commission's estimates of the average public reporting burden and cost related to the proposed rule in Docket RM12-3-000 follow:

NOPR in RM12-3-000 on Electric Quarterly Report
| Number of respondents | Number of responses per respondent per year | Implementing (one-time) burden per respondent: Burden hours | Implementing (one-time) burden per respondent: Cost ($) | Recurring operating burden per respondent per response ¹⁶: Burden hours ¹⁷ | Recurring operating burden per respondent per response ¹⁶: Cost ($) | Average annual burden per respondent (implementation averaged over Years 1-3): Burden hours | Average annual burden per respondent (implementation averaged over Years 1-3): Cost ($)
Companies within non-California RTO, and large cos. within Cal. RTO | 405 | 4 | 20 | $1,434.50 | no change | no change | 6.67 | $478.17
Medium/small companies within Cal. RTO | 20 | 4 | 20 | 1,434.50 | no change | no change | 6.67 | 478.17
Companies not within RTO | 663 | 4 | 20 | 1,434.50 | no change | no change | 6.67 | 478.17
Companies with no transactions | 695 | 4 | 20 | 1,434.50 | no change | no change | 6.67 | 478.17

¹⁶ The Commission expects no change or a slight decrease in the Recurring Operating Burden per Respondent per Response under the new filing system (when compared to quarterly filings under the existing system).

¹⁷ For the existing EQR system, the Commission estimates the average burden per respondent per quarterly filing to be: 32 hours for Companies within non-California RTO, and large companies within the California RTO; 80 hours for medium/small Companies within the California RTO; 3 hours for Companies not within an RTO; and 0.083 hours [5 minutes] for Companies with no transactions.

15. The one-time implementation burden and cost for all 1,783 respondents are 35,660 hours (1,783 × 20 hours), and $2,557,713.50 (1,783 × $1,434.50). Averaging this one-time implementation burden and cost over Years 1-3 yields an annual total burden of 11,892.61 hours (1,783 × 6.67) and an annual total cost of $852,577.11 (1,783 × $478.17)

16. The Commission recognizes that there will be an initial implementation burden associated with reviewing the instructions, revising the filing process, adding the agent to the respondent's eRegistration data, obtaining a Company Identifier, and filing EQR data through the new system. The Commission estimates a burden of 20 hours per respondent for the one-time implementation. To help with this initial implementation, the Commission will convene a staff-led technical conference to demonstrate the two new options for filing EQRs to industry participants. The conference will be available by webcast, which should minimize travel and other costs associated with participation in the conference. The Commission also proposes to direct staff to assist in transitioning to the new process. The demonstration and staff assistance should minimize the initial implementation burden.

17. For the recurring effort involved in electronically submitting EQR data on a quarterly basis to the Commission, the Commission anticipates that there will be no change or a slight burden reduction, when compared to the burden of making quarterly filings under the current system. The Commission seeks comments on the burden estimates related to the recurring quarterly filings.

Information Collection Costs: The Commission has estimated the cost of compliance per respondent to be $1,434.50, for one-time implementation of the changes proposed in this NOPR. The Commission has estimated the implementation cost as follows: ¹⁸

¹⁸ Hourly average wage is an average and was calculated using Bureau of Labor Statistics (BLS), Occupational Employment Statistics data for May 2011 (for NAICS 221100—Electric Power Generation, Transmission and Distribution, at http://bls.gov/oes/current/naics4_221100.htm#00-0000) for the senior accountant, financial analyst, information technology analyst, and support staff. The average hourly figure for legal staff is a composite from BLS and other resources.

• Legal staff (at $250/hour), for 2 hours, costing $500

• Senior accountant (at $51.38/hr.), financial analyst (at $68.12/hr.), and/or support staff (at $35.99/hr.), averaged at $51.83/hr., for a total of 2 hours, costing $103.66

• Information technology analyst (at $57.24/hour), for 12 hours, costing $686.88

• Support staff (at $35.99/hr), for 4 hours, costing $143.96.

Title: FERC-516,¹⁹ Electric Rate Schedules and Tariff Filings.

¹⁹ The Commission plans to separate the EQR reporting requirements from the remaining reporting requirements under FERC-516 (OMB Control No. 1902-0096). The Commission expects to move the EQR reporting requirements to the new FERC-920 (OMB Control No. 1902-0255) at the final rule stage.

Action: Proposed new EQR filing system and associated additional reporting requirements.

Respondents: Electric utilities

Frequency of Responses: Initial implementation and quarterly filings (beginning Q3 of 2013).

Need for Information: The Commission proposes changes to the method for filing EQRs. The Commission proposes to replace a filing system that requires an EQR filer to download Commission software with a system that would allow an EQR filer to file EQR data directly through the Commission's Web site, either through a web interface or by submitting an XML-formatted file. The Commission also proposes to require the EQR filer to identify itself with a Company Identifier. The Company Identifiers would be assigned through the Commission's Company Registration System.

Internal Review: The Commission has reviewed the proposed changes and has determined that the changes are necessary. These requirements conform to the Commission's need for efficient information collection, communication, and management within the energy industry. The Commission has assured itself, by means of internal review, that there is specific, objective support for the burden estimates associated with the information collection requirements.

18. Interested persons may obtain information on the reporting requirements by contacting: Federal Energy Regulatory Commission, 888 First Street, NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Please reference OMB Control No. 1902-0096, FERC-516, and Docket No. RM12-3 in your submission.

IV. Environmental Analysis

19. The Commission is required to prepare an Environmental Assessment or an Environmental Impact Statement for any action that may have a significant adverse effect on the human environment.²⁰ The actions taken here fall within categorical exclusions in the Commission's regulations for information gathering, analysis, and dissemination.²¹ Therefore, an environmental assessment is unnecessary and has not been prepared in this rulemaking.

²⁰ Regulations Implementing the National Environmental Policy Act of 1969, Order No. 486, 52 FR 47897 (Dec. 17, 1987), FERC Stats. & Regs., Regulations Preambles 1986-1990 ¶ 30,783 (1987).

²¹ 18 CFR 380.4(a)(5).

V. Regulatory Flexibility Act Certification

20. The Regulatory Flexibility Act of 1980 (RFA) ²² generally requires a description and analysis of proposed rules that will have significant economic impact on a substantial number of small entities. The RFA mandates consideration of regulatory alternatives that accomplish the stated objectives of a proposed rule and that minimize any significant economic impact on a substantial number of small entities. The Small Business Administration's (SBA) Office of Size Standards develops the numerical definition of a small business.²³ The SBA has established a size standard for electric utilities, stating that a firm is small if, including its affiliates, it is primarily engaged in the transmission, generation and/or distribution of electric energy for sale and its total electric output for the preceding twelve months did not exceed four million MWh.²⁴

²² 5 U.S.C. 601-612.

²³ 13 CFR 121.101.

²⁴ 13 CFR 121.201, Sector 22, Utilities & n.1.

21. Of the 1,783 filers,²⁵ approximately 1,194 filers had total electric output for the preceding twelve months that did not exceed four million MWh. However, when combined with their affiliates, 414 of those 1,194 filers no longer meet the definition of “small.” The Commission estimates that the remaining 780 filers are “small.”

²⁵ Of the 1,783 respondents, approximately 695 submit filings showing they had no transactions. The burden for these filings is minimal.

22. To ease the burden of implementation for all filers, the Commission is minimizing the changes which respondents will experience and giving two options for filing (using either comma-separated values or XML). The estimated one-time implementation cost per respondent is $1,434.50.

23. The Commission anticipates no change or a slight reduction in the burden for the recurring quarterly filings. In addition, small entities generally have few or no transactions and corresponding minimal recurring burden. Furthermore, we note that public utilities may request, on an individual basis, waiver from the EQR reporting requirements.²⁶ Thus, the Commission certifies that this proposed rule will not have a significant impact on a substantial number of small entities.

²⁶ The Commission has granted requests for waiver of the EQR filing requirements. See Bridger Valley Elect. Assoc., Inc., 101 FERC ¶ 61,146 (2002). Entities with a waiver will continue to have a waiver and will not need to file a new request for waiver.

VI. Comment Procedures

24. The Commission invites interested persons to submit comments on the matters and issues proposed in this notice to be adopted, including any related matters or alternative proposals that commenters may wish to discuss. Comments are due September 4, 2012. Comments must refer to Docket No. RM12-3-000, and must include the commenter's name, the organization they represent, if applicable, and their address in their comments.

25. The Commission encourages comments to be filed electronically via the eFiling link on the Commission's web site at http://www.ferc.gov. The Commission accepts most standard word processing formats. Documents created electronically using word processing software should be filed in native applications or print-to-PDF format and not in a scanned format. Commenters filing electronically do not need to make a paper filing.

26. Commenters that are not able to file comments electronically must send an original of their comments to: Federal Energy Regulatory Commission, Secretary of the Commission, 888 First Street NE., Washington, DC 20426.

27. All comments will be placed in the Commission's public files and may be viewed, printed, or downloaded remotely as described in the Document Availability section below. Commenters on this proposal are not required to serve copies of their comments on other commenters.

VII. Document Availability

28. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street, NE., Room 2A, Washington, DC 20426.

29. From the Commission's Home Page on the Internet, this information is available on eLibrary. The full text of this document is available on eLibrary in PDF and Microsoft Word format for viewing, printing, and/or downloading. To access this document in eLibrary, type the docket number excluding the last three digits of this document in the docket number field.

30. User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

List of Subjects in 18 CFR Part 35

Electric power rates, Electric utilities, Reporting and recordkeeping requirements.

By direction of the Commission. Commissioner Clark voting present.
Nathaniel J. Davis, Sr.,
Deputy Secretary.

In consideration of the foregoing, the Commission proposes to amend 18 CFR part 35, Chapter I, Title 18,as follows:

1. The authority citation for part 35 continues to read as follows:

Authority. 16 U.S.C. 791a-825r, 2601-2645; 31 U.S.C. 9701; 42 U.S.C. 7101-7352.

2. § 35.10b is revised to read as follows:

§ 35.10b Electric Quarterly Reports.

* * * Electric Quarterly Reports must be prepared in conformance with the Commission's guidance posted on the FERC Web site (http://www.ferc.gov) or as otherwise provided to the public.

[FR Doc. 2012-15734 Filed 7-2-12; 8:45 am]

BILLING CODE P